DEPARTMENT OF ENERGY

Federal Energy Regulatory Commission

[Docket Nos. CP07-398-000; CP07-399-000; CP07-400-000; CP07-401-000; CP07-402-000]

Gulf Crossing Pipeline Company, LLC; Gulf South Pipeline Company, L.P; Notice of Applicant Meeting

October 5, 2007.

On October 11, 2007, the Office of Energy Projects (OEP) staff will meet with representatives of Gulf Crossing Pipeline Company, LLC (Gulf Crossing); co-applicant in the above referenced dockets.

Gulf Crossing requests the meeting to discuss the possible reconfiguration of some of the compressor stations proposed in the Gulf Crossing Project. Gulf Crossing will present details of, and reasons for, the possible modification to its certificate application. Gulf Crossing and OEP Staff will discuss the proposed timing of the amendment to the certificate application and any impact to the project schedule.

For additional information, please contact the Commission's Office of External Affairs at 1-866-208-FERC.

Kimberly D. Bose,
Secretary.

[FR Doc. E7-20297 Filed 10-15-07; 8:45 am]

BILLING CODE 6717-01-P